DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having an effect in order to qualify or remain qualified for participation in the Federal Emergency Management Agency's (FEMA's) National Flood Insurance Program (NFIP).

DATES: The date of July 8, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Kristin E. Fontenot,
Assistant Administrator, Risk Analysis, Planning & Information Directorate, Federal Emergency Management Agency, Department of Homeland Security.

Community | Community map repository address
Mineral County, Colorado and Incorporated Areas
Docket No.: FEMA-B-2400
City of Creede | Town Hall, 2223 North Main Street, Creede, CO 81130.
Unincorporated Areas of Mineral County | Mineral County Courthouse, 1201 North Main Street, Creede, CO 81130.
Essex County, Massachusetts (All Jurisdictions)
Docket No.: FEMA-B-2357
City of Amesbury | City Hall, 62 Friend Street, Amesbury, MA 01913.
City of Beverly | City Hall, 191 Cabot Street, Beverly, MA 01915.
City of Gloucester | City Hall, 9 Dale Avenue, Gloucester, MA 01930.
City of Haverhill | City Hall, 4 Summer Street, Haverhill, MA 01830.
City of Lawrence | City Hall, 200 Common Street, Lawrence, MA 01840.
City of Lynn | City Hall, 3 City Hall Square, Lynn, MA 01901.
City of Methuen | Searles Building, 41 Pleasant Street, Methuen, MA 01844.
City of Newburyport | City Hall, 60 Pleasant Street, Newburyport, MA 01950.
City of Peabody | City Hall, 24 Lowell Street, Peabody, MA 01960.
City of Salem | City Hall, 93 Washington Street, Salem, MA 01970.
Town of Andover | Town Hall, 36 Bartlet Street, Andover, MA 01810.
Town of Boxford | Town Hall, 7A Spofford Road, Boxford, MA 01921.
Town of Danvers | Town Hall, 1 Sylvan Street, Danvers, MA 01923.
Town of Essex | Town Hall, 30 Martin Street, Essex, MA 01929.
Town of Georgetown | Town Hall, 1 Library Street, Georgetown, MA 01833.
Town of Groveland | Town Hall, 183 Main Street, Groveland, MA 01834.
Town of Hamilton | Town Hall, 577 Bay Road, Hamilton, MA 01936.
Town of Ipswich | Town Hall, 25 Green Street, Ipswich, MA 01938.
Town of Lynnfield | Town Hall, 55 Summer Street, Lynnfield, MA 01940.
Town of Manchester-by-the-Sea | Town Hall, 10 Central Street, Manchester-by-the-Sea, MA 01944.
Town of Marblehead | Abbot Hall, 188 Washington Street, Marblehead, MA 01945.
Town of Merrimac | Town Hall, 2 School Street, Merrimac, MA 01860.
Town of Middleton | Town Hall, 48 South Main Street, Middleton, MA 01949.
Town of Newbury | Newbury Municipal Offices, 12 Kent Way, Byfield, MA 01922.
Town of North Andover | Town Hall, 120 Main Street, North Andover, MA 01845.
Town of Rockport | Town Hall, 34 Broadway, Rockport, MA 01966.
Town of Rowley | Town Hall, 139 Main Street, Rowley, MA 01969.
Town of Salisbury | Town Hall, 5 Beach Road, Salisbury, MA 01952.
Town of Saugus | Town Hall, 298 Central Street, Saugus, MA 01906.
Town of Swampscott | Town Hall, 22 Monument Avenue, Swampscott, MA 01907.
Town of Topsfield | Town Offices, 8 West Common Street, Topsfield, MA 01983.
Town of Wenham | Town Hall, 138 Main Street, Wenham, MA 01984.
Town of West Newbury | Town Hall, 381 Main Street, West Newbury, MA 01985.
Middlesex County, Massachusetts (All Jurisdictions)
Docket No.: FEMA-B-2357
City of Cambridge | City Hall, 795 Massachusetts Avenue, Cambridge, MA 02139.
City of Everett | City Hall, 484 Broadway, Everett, MA 02149.
City of Lowell | City Hall, 375 Merrimack Street, Lowell, MA 01852.
City of Malden | City Hall, 200 Pleasant Street, Malden, MA 02148.
City of Medford | City Hall, 85 George P. Hassett Drive, Medford, MA 02155.
City of Melrose | City Hall, 562 Main Street, Melrose, MA 02176.
City of Newton | City Hall, 1000 Commonwealth Avenue, Newton, MA 02459.
City of Somerville | City Hall, 93 Highland Avenue, Somerville, MA 02143.
City of Waltham | City Hall, 610 Main Street, Waltham, MA 02452.
City of Woburn | City Hall, 10 Common Street, Woburn, MA 01801.
Town of Arlington | Town Hall, 730 Massachusetts Avenue, Arlington, MA 02476.
Town of Ashby | Town Hall, 895 Main Street, Ashby, MA 01431.
Town of Ashland | Town Hall, 101 Main Street, Ashland, MA 01721.
Town of Ayer | Town Hall, 1 Main Street, Ayer, MA 01432.
Town of Bedford | Town Hall, 10 Mudge Way, Bedford, MA 01730.
Town of Belmont | Town Hall, 455 Concord Avenue, Belmont, MA 02478.
Town of Billerica | Town Hall, 365 Boston Road, Billerica, MA 01821.
Town of Boxborough | Town Hall, 29 Middle Road, Boxborough, MA 01719.
Town of Burlington | Town Hall, 29 Center Street, Burlington, MA 01803.
Town of Chelmsford | Town Hall, 50 Billerica Road, Chelmsford, MA 01824.
Town of Concord | Town House, 22 Monument Square, Concord, MA 01742.
Town of Dracut | Town Hall, 62 Arlington Street, Dracut, MA 01826.
Town of Dunstable | Town Hall, 511 Main Street, Dunstable, MA 01827.
Town of Groton | Town Hall, 173 Main Street, Groton, MA 01450.
Town of Holliston | Town Hall, 703 Washington Street, Holliston, MA 01746.
Town of Hopkinton | Town Hall, 18 Main Street, Hopkinton, MA 01748.
Town of Lexington | Town Offices, 1625 Massachusetts Avenue, Lexington, MA 02420.
Town of Lincoln | Town Hall, 16 Lincoln Road, Lincoln, MA 01773.
Town of Littleton | Town Hall, 37 Shattuck Street, Littleton, MA 01460.
Town of Natick | Town Hall, 13 East Central Street, Natick, MA 01760.
Town of North Reading | Town Hall, 235 North Street, North Reading, MA 01864.
Town of Pepperell | Town Hall, 1 Main Street, Pepperell, MA 01463.
Town of Reading | Town Hall, 16 Lowell Street, Reading, MA 01867.
Town of Sherborn | Town Hall, 19 Washington Street, Sherborn, MA 01770.
Town of Shirley | Town Hall, 7 Keady Way, Shirley, MA 01464.
Town of Stoneham | Town Hall, 35 Central Street, Stoneham, MA 02180.
Town of Tewksbury | Town Hall, 1009 Main Street, Tewksbury, MA 01876.
Town of Townsend | Town Hall, 272 Main Street, Townsend, MA 01469.
Town of Tyngsborough | Town Hall, 25 Bryant Lane, Tyngsborough, MA 01879.
Town of Wakefield | Town Hall, 1 Lafayette Street, Wakefield, MA 01880.
Town of Watertown | Town Hall, 149 Main Street, Watertown, MA 02472.
Town of Wayland | Town Hall, 41 Cochituate Road, Wayland, MA 01778.
Town of Westford | Town Hall, 55 Main Street, Westford, MA 01886.
Town of Weston | Town Hall, 11 Town House Road, Weston, MA 02493.
Town of Wilmington | Town Hall, 121 Glen Road, Wilmington, MA 01887.
Town of Winchester | Town Hall, 71 Mt. Vernon Street, Winchester, MA 01890.
Norfolk County, Massachusetts (All Jurisdictions)
Docket No.: FEMA-B-2101, FEMA-B-2357
City of Quincy | City Hall, 1305 Hancock Street, Quincy, MA 02169.
Town of Avon | Town Hall, 65 East Main Street, Avon, MA 02322.
Town of Bellingham | Municipal Center, 10 Mechanic Street, Bellingham, MA 02019.
Town of Braintree | Town Hall, 1 John F. Kennedy Memorial Drive, Braintree, MA 02184.
Town of Brookline | Town Hall, 333 Washington Street, Brookline, MA 02445.
Town of Canton | Memorial Hall, 801 Washington Street, Canton, MA 02021.
Town of Cohasset | Town Hall, 41 Highland Avenue, Cohasset, MA 02025.
Town of Dedham | Town Hall, 450 Washington Street, Dedham, MA 02026.
Town of Dover | Town House, 5 Springdale Avenue, Dover, MA 02030.
Town of Foxborough | Town Hall, 40 South Street, Foxborough, MA 02035.
Town of Franklin | Municipal Building, 355 East Central Street, Franklin, MA 02038.
Town of Holbrook | Town Hall, 50 North Franklin Street, Holbrook, MA 02343.
Town of Medfield | Town House, 459 Main Street, Medfield, MA 02052.
Town of Medway | Town Hall, 155 Village Street, Medway, MA 02053.
Town of Millis | Veterans Memorial Building, 900 Main Street, Millis, MA 02054.
Town of Milton | Town Office Building, 525 Canton Avenue, Milton, MA 02186.
Town of Needham | Town Hall, 1471 Highland Avenue, Needham, MA 02492.
Town of Norfolk | Town Hall, 1 Liberty Lane, Norfolk, MA 02056.
Town of Norwood | Town Hall, 566 Washington Street, Norwood, MA 02062.
Town of Plainville | Town Hall, 142 South Street, Plainville, MA 02762.
Town of Randolph | Town Hall, 41 South Main Street, Randolph, MA 02368.
Town of Sharon | Town Office, 90 South Main Street, Sharon, MA 02067.
Town of Stoughton | Town Hall, 10 Pearl Street, Stoughton, MA 02072.
Town of Walpole | Town Hall, 135 School Street, Walpole, MA 02081.
Town of Wellesley | Town Hall, 525 Washington Street, Wellesley, MA 02482.
Town of Westwood | Town Hall, 580 High Street, Westwood, MA 02090.
Town of Weymouth | Town Hall, 75 Middle Street, Weymouth, MA 02189.
Town of Wrentham | Town Hall, 79 South Street, Wrentham, MA 02093.
Worcester County, Massachusetts (All Jurisdictions)
Docket No.: FEMA-B-2357
City of Fitchburg | City Hall, 718 Main Street, Fitchburg, MA 01420.
City of Gardner | City Hall, 95 Pleasant Street, Gardner, MA 01440.
City of Leominster | City Hall, 25 West Street, Leominster, MA 01453.
City of Worcester | City Hall, 455 Main Street, Worcester, MA 01608.
Town of Ashburnham | Town Hall, 32 Main Street, Ashburnham, MA 01430.
Town of Berlin | Town Offices, 23 Linden Street, Berlin, MA 01503.
Town of Bolton | Town Hall, 663 Main Street, Bolton, MA 01740.
Town of Boylston | Town Hall, 221 Main Street, Boylston, MA 01505.
Town of Clinton | Town Hall, 242 Church Street, Clinton, MA 01510.
Town of Harvard | Town Hall, 13 Ayer Road, Harvard, MA 01451.
Town of Holden | Starbard Building, 1204 Main Street, Holden, MA 01520.
Town of Hopedale | Town Office, 78 Hopedale Street, Hopedale, MA 01747.
Town of Hubbardston | Town Hall, 7 Main Street, Hubbardston, MA 01452.
Town of Lancaster | Prescott Building, 701 Main Street, Lancaster, MA 01523.
Town of Lunenburg | Town Hall, 17 Main Street, Lunenburg, MA 01462.
Town of Mendon | Town Hall, 20 Main Street, Mendon, MA 01756.
Town of Milford | Town Hall, 52 Main Street, Milford, MA 01757.
Town of Paxton | Town Hall, 697 Pleasant Street, Paxton, MA 01612.
Town of Princeton | Town Hall, 6 Town Hall Drive, Princeton, MA 01541.
Town of Rutland | Town Hall, 250 Main Street, Rutland, MA 01543.
Town of Sterling | Butterick Municipal Building, 1 Park Street, Sterling, MA 01564.
Town of West Boylston | Town Hall, 140 Worcester Street, West Boylston, MA 01583.
Town of Westminster | Town Hall, 11 South Street, Westminster, MA 01473.
City of Richmond, Virginia (Independent City)
Docket No.: FEMA-B-2327
City of Richmond | Department of Public Utilities, 730 East Broad Street, Richmond, VA 23219.

[FR Doc. 2025-04889 Filed 3-20-25; 8:45 am]

BILLING CODE 9110-12-P